DEPARTMENT OF EDUCATION

Applications for New Awards; Disability Innovation Fund, Pathways to Partnerships Innovative Model Demonstration Project

AGENCY: Office of Special Education and Rehabilitative Services, Department of Education.

ACTION: Notice.

SUMMARY: The U.S. Department of Education (Department) is issuing a notice inviting applications for Federal fiscal year (FFY) 2023 for the Disability Innovation Fund (DIF), Pathways to Partnerships Innovative Model Demonstration Project, Assistance Listing Number 84.421E. This notice relates to the approved information collection under OMB control number 1894-0006, Applications for New Grants under the Rehabilitation Services Administration (RSA).

DATES:

Applications Available: April 5, 2023.

Deadline for Notice of Intent to Apply: April 19, 2023.

Deadline for Transmittal of Applications: June 5, 2023.

Date of Pre-Application Meeting: The Office of Special Education and Rehabilitative Services (OSERS) will post a PowerPoint presentation that provides general information about the Rehabilitation Services Administration's discretionary grants and a PowerPoint presentation specifically about the Disability Innovation Fund, Pathways to Partnerships Innovative Model Demonstration Project (84.421E) at https://ncrtm.ed.gov/grant-info. In addition to posting the PowerPoint, OSERS will conduct a pre-application meeting specific to this competition via conference call to respond to questions. Information about the pre-application meeting will be available at https://ncrtm.ed.gov/grant-info prior to the date of the call. OSERS invites interested applicants to send questions to 84.421E@ed.gov in advance of the pre-application meeting. The teleconference information, including a summary of the 84.421E pre-application meeting questions and answers, will be available at https://ncrtm.ed.gov/grant-info within 10 business days after the pre-application meeting.

Deadline for Intergovernmental Review: August 3, 2023.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

FOR FURTHER INFORMATION CONTACT: Cassandra P. Shoffler, U.S. Department of Education, 400 Maryland Avenue SW, Room 5065A, Potomac Center Plaza, Washington, DC 20202-2800. Telephone: (202) 245-7827. Email: 84.421E@ed.gov.

If you are deaf, hard of hearing, or have a speech disability and wish to access telecommunications relay services, please dial 7-1-1.

SUPPLEMENTARY INFORMATION:

Full Text of Announcement

I. Funding Opportunity Description

Purpose of Program: The purpose of the Disability Innovation Fund (DIF) Program, as provided by the Consolidated Appropriations Act, 2022 (Pub. L. 117-103), is to support innovative (as defined in this notice) activities aimed at increasing competitive integrated employment (CIE) as defined in section 7 of the Rehabilitation Act of 1973 (Rehabilitation Act) (29 U.S.C. 705(5)),¹ for youth and other individuals with disabilities.

¹ This regulatory definition further clarifies the statutory definition of CIE found in the Rehabilitation Act. Competitive integrated employment means work that—

(i) Is performed on a full-time or part-time basis (including self-employment) and for which an individual is compensated at a rate that—

(A) Is not less than the higher of the rate specified in section 6(a)(1) of the Fair Labor Standards Act of 1938 (29 U.S.C. 206(a)(1)) or the rate required under the applicable State or local minimum wage law for the place of employment;

(B) Is not less than the customary rate paid by the employer for the same or similar work performed by other employees who are not individuals with disabilities and who are similarly situated in similar occupations by the same employer and who have similar training, experience, and skills; and

(C) In the case of an individual who is self-employed, yields an income that is comparable to the income received by other individuals who are not individuals with disabilities and who are self-employed in similar occupations or on similar tasks and who have similar training, experience, and skills; and

(D) Is eligible for the level of benefits provided to other employees; and

(ii) Is at a location—

(A) Typically found in the community; and

(B) Where the employee with a disability interacts for the purpose of performing the duties of the position with other employees within the particular work unit and the entire work site, and, as appropriate to the work performed, other persons (e.g., customers and vendors), who are not individuals with disabilities (not including supervisory personnel or individuals who are providing services to such employee) to the same extent that employees who are not individuals with disabilities and who are in comparable positions interact with these persons; and

(iii) Presents, as appropriate, opportunities for advancement that are similar to those for other employees who are not individuals with disabilities and who have similar positions. (34 CFR 361.5(c)(9))

For FFY 2023, the Department intends to fund multiple innovative model demonstration projects focused on the creation of systemic approaches to transition services for children and youth with disabilities (as defined in this notice). Ensuring that key agents of change and required partners (as defined in this notice)—State vocational rehabilitation agencies (SVRAs), State educational agencies (SEAs), local educational agencies (LEAs), and federally funded Centers for Independent Living (CILs)—are actively collaborating to support coordinated transition processes is critical to the success of children and youth with disabilities.

Priority: We are establishing this priority for the FFY 2023 grant competition and any subsequent year in which we make awards from the list of unfunded applications from this competition, in accordance with section 437(d)(1) of the General Education Provision Act (GEPA), 20 U.S.C. 1232(d)(1).

Absolute Priority: For FFY 2023 and any subsequent year in which we make awards from the list of unfunded applications from this competition, this is an absolute priority. Under 34 CFR 75.105(c)(3), we consider only applications that meet the absolute priority.

The priority is:

Pathways to Partnerships Innovative Model Demonstration Project.

Background:

The Americans with Disabilities Act (ADA) and the Rehabilitation Act of 1973, as amended (Rehabilitation Act) both describe the Nation's goals for people with disabilities to include achieving: equality of opportunity, full inclusion and integration in society and employment, independent living, and economic self-sufficiency (42 U.S.C. 12101(a)(7); 29 U.S.C. 701(a)(6)). Securing an appropriate education, including transition services that lead to CIE, is one critical component that youth and adults with disabilities need to achieve the Nation's goals. As Congress found in the Rehabilitation Act, “there is a substantial need to support such students [with disabilities] as they transition from school to postsecondary life.” 29 U.S.C. 701(a)(7).

Over the past several decades, States have implemented numerous federally mandated changes to improve post-school outcomes for youth with disabilities (Gingerich & Crane, 2021). For example, the changes have included greater access to the general education curriculum, which has increased the number of students with disabilities who leave high school with a standard high school diploma, and pre-employment transition services, including transition planning within the individualized education program (IEP) process beginning at age 16 (or age 14 in some States) for students with disabilities under the Individuals with Disabilities Education Act (IDEA).

However, persons with disabilities are less likely to be employed than those without disabilities. According to the U.S. Department of Labor, Office of Disability Employment Policy, in 2022 the unemployment rate for persons with disabilities ages 16-64 was 5.4 percent compared to 3.2 percent for persons without disabilities. Similarly, the unemployment rate for youth with disabilities, ages 16-19, was 19.6 percent compared to 10.4 percent for youth without a disability. An even larger disparity exists for youth with disabilities ages 20-24, with an unemployment rate of 14.5 percent compared to 6.7 percent for youth ages 20-24 without a disability. (United States Department of Labor, n.d.) ² The Department intends to begin building the evidence base regarding whether early exposure to employment and career possibilities for children and youth with disabilities will lead to successful secondary or postsecondary experiences, including employment. There are a significant number of factors contributing to disappointing transition outcomes for students with disabilities, such as limited exposure to career exploration, lack of preparation for postsecondary education, limited employment opportunities (e.g., paid internships, paid apprenticeships), and limited training for youth service professionals (as defined in this notice) (Frazier et al., 2020; Biggs & Carter, 2016; Luft, 2015; Wehman et al., 2015).

² See the Resources section of this notice for complete citations.

As children and youth with disabilities move through the school system, many do not have exposure to self-advocacy training, careers, and independent living opportunities until they transition from high school. It is important to support children and youth with disabilities and their support systems (as defined in this notice) to bridge the gap from school to adult life, independent living, and career. SVRAs, SEAs, LEAs, and CILs offer various transitional supports that could be more effective at achieving the Nation's goals for children and youth with disabilities expressed in the ADA and Rehabilitation Act if leveraged through innovative models. Oertle & Trach (2007) found that collaboration among educational professionals (as defined in this notice), VR professionals, youth service professionals, employers, and parents can improve interagency relationships and lead to successful outcomes for children and youth with disabilities, including increasing postsecondary education completion and securing CIE.

Through this priority, the Department seeks to support projects that foster the establishment of close ties among agencies, transforming collaboration into partnership. Each applicant is required to ensure that project partnerships are comprised of, at a minimum, each of the following entities: SVRAs, SEAs, LEAs, CILs. Each partnership will demonstrate how services might be improved in the field, by developing and piloting a cohesive service delivery model that better manages its unique resources while coordinating efforts to improve outcomes for children and youth with disabilities and their support systems and facilitating successful transitions. In addition to required partners, applicants are strongly encouraged to include additional entities that may benefit the partnership, including State, local or regional employers, chambers of commerce, institutions of higher education and non-profit or private entities that promote improved transition outcomes for children and youth with disabilities.

The required partners support transition services by providing employment services, training, career exploration, and independent living skills to children and youth with disabilities and their support systems. These entities are authorized by different laws that are administered by different Federal agencies, and each entity has an important role in supporting successful secondary or postsecondary experiences for children and youth with disabilities and their support systems.

SVRAs are authorized by the title I of the Rehabilitation Act. SVRAs provide VR services for individuals with disabilities, consistent with their strengths, resources, priorities, concerns, abilities, capabilities, interests, and informed choice, so that they may prepare for and engage in CIE or supported employment and achieve economic self-sufficiency.

The IDEA makes available a free appropriate public education to eligible children and youth with disabilities and ensures that special education and related services are available to those children and youth. SEAs, under 34 CFR 300.149, have responsibility for general supervision of LEAs under IDEA to ensure appropriate monitoring and oversight, technical assistance, and enforcement. LEAs, in turn, are responsible for the general supervision of schools within their jurisdictions. Under IDEA, LEAs must provide transition services to students at age 16 (or age 14 in some States).

Title VII of the Rehabilitation Act of 1973 authorizes the Independent Living Services and CIL programs. Administered by the Administration for Community Living, CILs are required to provide independent living core services (as defined in this notice) to individuals with significant disabilities to maximize the leadership, empowerment, independence, and productivity of individuals with disabilities, and the integration and full inclusion of individuals with disabilities into the mainstream of American society.

It is through partnerships (as defined in this notice) at the State and local levels that a seamless, comprehensive system of programs, projects, and supports can be provided in a manner that raises expectations, improves engagement, and provides empowerment opportunities for children and youth with disabilities and their support systems. Over the past three decades, research on the transition of students with significant disabilities has shown that post-school outcomes of students with disabilities increase when educators, families, students, community members, and organizations work together in transition planning (Newman et al., 2016). These individuals each contribute a unique set of expertise to the collective group that, together, pave a clear and robust path as children and youth with disabilities transition from school to postsecondary endeavors, including CIE.

The research is clear that collaboration from all stakeholders in the transition process improves outcomes, but currently, there is a deficit in policies and practices in place to serve as models (Frazier et al., 2020). The collaboration of all stakeholders will attempt to solve common challenges associated with cross-agency communication, alignment of vision and goals, resource coordination, and trust. Partnerships will reduce organizational silos and create opportunities for a unified vision; common goals; cross-partner education and training; communication; and the identification and utilization of innovative and new approaches to collaboration among partners focused on improving transition for children and youth with disabilities and their support systems.

We encourage applicants to propose innovative models of collaboration and partnerships that coordinate funding from, and provide a seamless system of services by, required partners. Such collaboration and partnerships improve the transition for children and youth with disabilities from the education system to the vocational rehabilitation system with the goal of obtaining CIE. Innovative models have the potential to increase knowledge and access to opportunities and programs for children and youth with disabilities and their support systems, as well as to challenge the field to raise expectations and secure partnerships that result in desired employment, postsecondary education, and economic self-sufficiency outcomes for children and youth with disabilities.

Priority:

A project under this priority must develop an innovative model of collaboration and partnerships, with coordination of funding from, and a seamless system of services provided by, the required partners (SVRAs, SEAs, LEAs, and CILs). A project must include an innovative approach to the provision of seamless transition services focused on career exploration, CIE aspiration, and achievement of CIE for children and youth with disabilities, leveraging the expertise of the required partners to increase the success of the transition process. The project must include an evaluation of the training provided to—

(a) youth service professionals who are implementing the innovative model, including but not limited to service providers, aides, and other professionals who provide, for example, skills training, professional development, and cross-agency training;

(b) children and youth with disabilities (i.e., in soft skills training, career exploration training, and job readiness training); and

(c) support systems of children and youth with disabilities (i.e., in advocacy, financial planning, and transition planning).

The project must promote opportunities for career exposure for youth such as internships and apprenticeships. To promote transparency and provide tools for sharing best practices, the project also must establish a project-specific website geared toward actionable items, such as information for youth service professionals (i.e., program descriptions and information, resources, online training opportunities, etc.) or project participant resources for children and youth with disabilities (i.e., interest inventories, career exploration including virtual employer tours, job duties, educational courses that support specific careers, resources for transitioning from middle to high school or high school to post-secondary education or employment). It would also include resources, as they are being developed, that would allow for the replication of certain aspects of the project throughout the life of the project. The project must develop collaborations into partnerships that leverage resources to implement a cohesive service delivery model that supports successful postsecondary experiences for children and youth with disabilities and their support systems.

Application Requirements:

Under this priority, applicants must meet the following application requirements.

(a) Proposed project. Describe, in a narrative section of the application, the proposed project including a description of the defined geographic area or areas to be served by the project; how the proposed project will develop, pilot, refine, and implement, and collect and analyze data for the collaborative model that leverages the expertise of the required partners, children and youth with disabilities and their support systems, policymakers, employers, educational professionals, and youth service professionals; and other agencies and entities to assist with the proposed project. To meet this requirement, in the application, applicants must—

(1) Develop the proposed project (In Year One).

(i) Demonstrate that the proposed project incorporates evidence, findings, or accompanying summary reports from experts in the field, where applicable, or an existing program that has been modified to be appropriate for the proposed project;

(ii) Describe how the proposed project will develop a collaborative innovative systemic model, including ongoing professional and leadership development for youth service professionals across agencies, to assist children and youth with disabilities and their support systems;

(iii) Identify stakeholders that have experience serving children and youth with disabilities that are diverse, such as with regard to socioeconomic status, race, ethnicity, culture, language, disability, and gender, and describe how the project will include such stakeholders in project activities;

(iv) Describe how the proposed project will identify, conduct outreach to and serve children and youth with disabilities and their support systems, required partners, policy makers, employers, educational professionals, youth service professionals, and other agencies and entities that are critical to the development and implementation of the proposed project;

(v) Describe how the proposed project will identify, conduct outreach to and serve children and youth with disabilities who have been underserved by SVRAs or SEAs, such as children and youth of color, from low-income families, from rural areas or with significant disabilities.

(vi) Identify and describe the innovative services and supports that are relevant to the proposed project to promote smooth, coordinated transition services resulting in successful CIE outcomes for project participants;

(vii) Describe how the proposed project will develop and pilot (years 1 and 2), and refine and implement (years 2-5), a project website that is a centralized location for maintaining age-appropriate materials for youth participants and resources for youth service professionals to include: project details, project results, and training/resources for project participants that will be incorporated into the required partner websites at the end of the project and that will raise awareness among and facilitate engagement with other interested public entities and the business community;

(viii) Describe how the proposed project will create age-appropriate, in-person and virtual career experiences such as internships and apprenticeships, which may include standalone models, training modules, and customized modules to meet the unique learning needs of project participants, and which may be incorporated into the proposed project website;

(ix) Describe how the proposed project will develop, refine, and implement a program that trains project participants in economic independence, including financial literacy training (as defined in this notice), and may include a standalone model or modules that may be incorporated into the proposed project website;

(x) Describe how the proposed project's required partners will collaborate on a product for use by personnel supporting the project participants and the project participants themselves, that supports and encourages career exploration and career assessment results and interests;

(xi) Describe how the proposed project will identify, and conduct outreach and information dissemination to, stakeholders, including youth and children with disabilities and their support systems, partners, and project participants;

(xii) Describe the proposed project plan to conduct local resource mapping (as defined in this notice); and

(xiii) Describe how the proposed project will identify and develop mechanisms to collect data from partners, improve data sharing among partners and stakeholders, and maintain outcome data;

(2) Pilot the proposed project (No later than Quarter 1 of Year Two). Describe how the proposed project will pilot the proposed project no later than the first quarter of the second year of the proposed project period (October 1, 2024—December 30, 2024), including what services will be offered; the expected number of children and youth with disabilities served; the expected number of trainings conducted with youth service professionals, children and youth with disabilities, support systems, and other key partners and stakeholders (i.e., Workforce Boards, Businesses); and data collected and evaluated during the pilot phase; and

(3) Refine and implement the proposed project (Year Two to Five).

(i) Describe how the proposed project will assess the results of the pilot, including through data collection and evaluation, to determine whether components of the pilot produced the expected results as planned or will need to be altered prior to the implementation of the proposed project;

(ii) Describe how the proposed project will include a process of continuous assessment and improvement to ensure that the proposed project activities are reviewed against the proposed project goals and objectives and are refined throughout the project period; and

(iii) Describe the plan to refine the proposed project through a process for securing feedback, through various methods (e.g., in-person, phone, virtual) from project participants, partners, and stakeholders, to ensure continuous improvement and refinement of the proposed project throughout the project period; and

(4) Collect and analyze project data (Year One to Five).

(i) Describe how the full implementation of the proposed project will include finalization of baseline data (first quarter of year 1); including collecting the following data elements in each year of the grant and setting appropriate targets:

(A) The number of children with disabilities who are contacted about the proposed project.

(B) The number of youth with disabilities who are contacted about the proposed project.

(C) The number of children with disabilities who are enrolled in the proposed project.

(D) The number of youth with disabilities who are enrolled in the proposed project.

(E) The number of youth with disabilities who secure competitive integrated employment.

(F) The number of youth enrolled in post-secondary education.

(G) The number of youth service professionals, broken down by program/agency (i.e., SVRAs, SEAs, LEAs, CILs, and other entities) who participate in professional development training (i.e., cross training) to support the development of the proposed project, increasing successful pathways to partnerships;

(ii) Describe how the assessment of baseline data will be conducted prior to the start of the proposed pilot project activities (year 1); and

(iii) Describe how data collection and assessment of feedback on the proposed project and its impact on project participants, including strengths and challenges, will be collected and analyzed during the proposed project pilot (years 1-2) and refinement (years 2-5).

(b) Memorandum of understanding (MOU)

(1) Submit with the application letters of intent from an authorized representative to sign a formal MOU from all required partners, identifying the general responsibilities of each partner in the proposed project.

(2) Provide an assurance in the application that if the applicant receives an award, it will, within 180 days of award date, submit to the Department a formal signed MOU between the applicant and all required partners. The MOU must include, for each required partner, a scope of work describing the portions of the application that the partner will implement. These scopes of work must contain detailed work plans and budgets that are consistent with the application, and must include—

(i) The applicant's and each partner's specific goals, activities, timelines, budgets, key personnel, and annual performance targets;

(ii) Description of a process for decision-making;

(iii) Description of a process for amending the MOU;

(iv) Identification of the fiscal agent; and

(v) Description of how the applicant and partners will communicate and exchange information.

(vi) Describe how the proposed project will establish an advisory work group or steering committee that meets at least quarterly, and includes but is not limited to, key project personnel (as defined in this notice) from the partners, with at least 10 percent of the committee members or workgroup to include children and youth with disabilities and their support systems. The advisory work group or steering committee will provide input on the development, implementation, and operationalization of partner activities that contribute to the success of project participants (as defined in this notice);

(c) Logic model

(1) Provide a logic model (as defined in this notice) that communicates how the proposed project will achieve its intended outcomes that depicts, at a minimum, the goals, activities, outputs, and intended outcomes of the proposed project.

(2) Demonstrate how the proposed project components (as defined in this notice) are intended to affect the proposed project outcomes. Applicants must specifically note the proposed project activities that are supported by evidence that demonstrates a rationale and are depicted in the logic model.

Note: The following website provides more information on logic models: “Logic models: “Logic models: A tool for designing and monitoring program evaluations” https://ies.ed.gov/ncee/edlabs/regions/pacific/pdf/rel_2014007.pdf.

(d) Proposed project management plan. In the narrative section of the application under “Quality of the management plan,” describe how—

(1) The proposed management plan will ensure that the intended project outcomes will be achieved on time and within budget. To address this requirement, the applicant must include—

(i) Clearly defined responsibilities for key project personnel, including level of effort, consultants, and subcontractors, as applicable;

(ii) Identification of required and additional partners involved in completing the proposed project, including roles;

(iii) Timelines, milestones, and deliverables for accomplishing the project tasks;

(iv) A description of how time commitments of key project personnel and any consultants and subcontractors will be allocated and how these allocations are appropriate and adequate to achieve the intended project outcomes;

(v) The proposed management plan that ensures that the products and services provided are of high quality, relevant, and useful to recipients;

(vi) A description of how the proposed project will include a diversity of perspectives, including those of children and youth with disabilities and their support systems; the required partners; policymakers, employers, educational professionals, and youth service professionals; and other agencies and entities in its development and operation; and

(vii) A detailed description of how activities will continue to be sustained once the grant performance period is over.

(e) Proposed project evaluation. In the narrative section of the application under “Quality of the project evaluation,” include an evaluation plan for the proposed project as described in the following paragraphs. The evaluation plan must describe measures of progress in implementation, including the criteria for determining the extent to which the proposed project's products and services have met the goals for reaching its target population; measures of intended outcomes or results of the proposed project activities to evaluate those activities; and how well the goals or objectives of the proposed project, as described in its logic model, have been met. Grantees must dedicate sufficient funds throughout the project period to cover the costs of developing, refining, and implementing the project evaluation plan, as well as the costs associated with collaborating throughout the period of performance with an independent evaluator identified by RSA. The evaluation plan and process must—

(1) Identify formative and summative evaluation questions that align to the logic model;

(2) Describe how progress in and fidelity of implementation, as well as project outcomes, will be measured to answer the evaluation questions;

(3) Specify the measures and associated instruments or sources for data appropriate to the evaluation questions. Include information regarding reliability and validity of measures where appropriate;

(4) Describe strategies for analyzing data and how data collected as part of this proposed project will be used to inform and refine the logic model and evaluation plan, including subsequent data collection;

(5) Include a timeline for conducting the evaluation and include staff assignments for completing the plan. The timeline must indicate that data will be available bi-annually, for the annual performance report (October 1-March 31) and end of year performance report (October 1-September 30);

(6) Describe how the proposed project will collect data regarding the project participants, including but not limited to, demographics (e.g., gender, race, ethnic group) and regional information;

(7) Describe how the proposed project will identify and evaluate the innovative strategies that were effective for systemic change in partnerships (e.g., relationship building, resource sharing, funding mechanism for services);

(8) Describe how the proposed project will evaluate the relationship between project participants' engagement with or use of specific practices and strategies implemented by the proposed project and key outcomes;

(9) Describe how the proposed project will make broadly available the results of any evaluations conducted of funded activities, digitally and free of charge, through formal (e.g., peer reviewed journals) or informal (e.g., newsletters) mechanisms;

(10) Describe how the proposed project will ensure that data from the grantee's evaluation are made available to an independent evaluator identified by RSA consistent with applicable privacy requirements;

(11) Describe how the proposed project will leverage data collection, analysis, and research methodologies to result in an evaluation that can build evidence at least at the level of promising evidence (as defined in this notice); and

(12) Include an assurance that the project will cooperate on an ongoing basis with any technical assistance provided by the Department or its contractors and comply with the requirements of any other evaluation of the program conducted by the Department, including the need to share project data.

References

Biggs, E.E., & Carter, E.W. (2016). Quality of life for transition-age youth with autism or intellectual disability. Journal of Autism and Developmental Disorders, 46(1), 190-204 https://doi.org/10.1007/s10803-015-2563-x.

Federal Joint Communication to State and Local Government: Resource Leveraging & Service Coordination to Increase Competitive Integrated Employment for Individuals with Disabilities. (2022, August 3). Retrieved January 26, 2023, from www.dol.gov/sites/dolgov/files/ODEP/pdf/ResourceLeveragingServiceCoordinationToIncreaseCIE8-12-22.pdf.

Frazier, K.F., Perryman, K., & Kucharczyk, S. (2020). Transition Services: Building Successful Collaborations among School Professionals. Journal of School-Based Counseling Policy and Evaluation, 2(2), 131-141. https://doi.org/10.25774/80b3-kc43.

Gingerich, J.A., & Crane, K. (2021). Transition Linkage Tool: A System Approach to Enhance Post-School Employment Outcomes (pp. 1-23). College Park, MD: University of Maryland.

Luft, P. (2015). Transition services for DHH adolescents and young adults with disabilities: Challenges and theoretical frameworks. American Annals of the Deaf, 160(4), 395-414. https://doi.org/10.1353/aad.2015.0028.

Newman, L.A., Madaus, J.W., & Javitz, H.S. (2016). Effect of transition planning on postsecondary support receipt by students with disabilities. Exceptional Children, 82(4), 497-514. https://doi.org/10.1177/0014402915615884.

Oertle, K.M., & Trach, J.S. (2007). Interagency collaboration: The importance of rehabilitation professionals' involvement in transition. Journal of Rehabilitation, 73(3).

Disability employment statistics. United States Department of Labor. (n.d.). Disability employment statistics. Retrieved January 3, 2023, from www.dol.gov/agencies/odep/research-evaluation/statistics.

Wehman, P., Sima, A., Ketchum, J., West, M., Chan, F., & Luecking, R. (2015). Predictors of successful transition from school to employment for youth with disabilities. Journal of Occupational Rehabilitation, 25(2), 323-334. https://doi.org/10.1007/s10926-014-9541-6.

Definitions

For the FFY 2023 grant competition and any subsequent year in which we make awards from the list of unfunded applications from this competition, in accordance with section 437(d)(1) of GEPA, we establish definitions of “children and youth with disabilities,” “educational professional,” “financial literacy training,” “independent living core services,” “innovative,” “key project personnel,” “local resource mapping,” “partnership,” “project participants,” “promising evidence,” “required partners,” “support systems,” and “youth service professionals.” The remaining definitions are from 34 CFR 77.1. The authority for each definition is noted following the text of the definition.

“Children and youth with disabilities” means children (ages 10-13) and youth (ages 14-24) with disabilities who meets the definition of “child with a disability” in 34 CFR 300.8 or a person who (i) has a physical or mental impairment that substantially limits one or more major life activities, (ii) has a record of such an impairment, or (iii) is regarded as having such an impairment. (Section 437(d)(1) of GEPA.)

“Educational professional” means a professional providing educational services either at a school, academy, or other educational facility, or at a private facility or residence, as a teacher, professor, tutor, aide, administrator, or other education professional. (Section 437(d)(1) of GEPA.)

“Financial literacy training” means the education and understanding of knowing how money is made, spent, and saved as well as the skills and ability to use financial resources to make decisions. (Section 437(d)(1) of GEPA.)

“Independent living core services” means (i) information and referral services; (ii) independent living skills training; (iii) peer counseling (including cross-disability peer counseling); (iv) individual and systems advocacy; and (v) services that—(A) facilitate the transition of individuals with significant disabilities from nursing homes and other institutions to home and community-based residences, with the requisite supports and services; (B) provide assistance to individuals with significant disabilities who are at risk of entering institutions so that the individuals may remain in the community; and (C) facilitate the transition of youth who are individuals with significant disabilities, who were eligible for individualized education programs under section 614(d) of the IDEA (20 U.S.C. 1414(d)), and who have completed their secondary education or otherwise left school, to postsecondary life. (Section 437(d)(1) of GEPA.)

“Innovative” means featuring new methods, ideas, or approaches. (Section 437(d)(1) of GEPA.)

“Key project personnel” means, at a minimum, the project director or principal investigator with the grantee responsible for defining and identifying all other key personnel positions in their applications. (Section 437(d)(1) of GEPA.)

“Local resource mapping” means a strategy for identifying and analyzing the programs, people, services, and other resources that currently exist. (Section 437(d)(1) of GEPA.)

“Logic model” (also referred to as a theory of action) means a framework that identifies key proposed project components (as defined in 34 CFR 77.1) of the proposed project (i.e., the active “ingredients” that are hypothesized to be critical to achieving the relevant outcomes (as defined in 34 CFR 77.1)) and describes the theoretical and operational relationships among the key proposed project components and relevant outcomes. (34 CFR 77.1.)

“Partnership” means an entity in which two or more co-owners contribute resources, share in success and loss, and are individually liable for the entity's actions. (Section 437(d)(1) of GEPA.)

“Project component” means an activity, strategy, intervention, process, product, practice, or policy included in a project. Evidence may pertain to an individual project component or to a combination of project components (e.g., training teachers on instructional practices for English learners and follow-on coaching for these teachers). (34 CFR 77.1.)

“Project participants” means individuals participating in the project, including but not limited to children and youth with disabilities and their support system and youth service professionals. (Section 437(d)(1) of GEPA.)

“Promising evidence” means that there is evidence of the effectiveness of a key project component in improving a relevant outcome, based on a relevant finding that includes at least one statistically significant and positive (i.e., favorable) effect on a relevant outcome. (Section 437(d)(1) of GEPA.)

“Required partners” mean SVRAs, SEAs, LEAs, and CILs. (Section 437(d)(1) of GEPA.)

“Support systems” means a network of people, including family members, guardians, advocates, friends, and peers, who provide an individual with practical or emotional support. (Section 437(d)(1) of GEPA.)

“Youth service professionals” means adults, who have competencies in many fields (youth development, education, workforce development, disability, etc.) and work directly with children and youth with disabilities, ages 10-24, in order to effectively guide youth in transition and maximize their potential. (Section 437(d)(1) of GEPA.)

Waiver of Proposed Rulemaking: Under the Administrative Procedure Act (5 U.S.C. 553), the Department generally offers interested parties the opportunity to comment on proposed priorities, selection criteria, requirements, and definitions. Section 437(d)(1) of GEPA, however, allows the Secretary to exempt from rulemaking requirements regulations governing the first grant competition under a new or substantially revised program authority. This is the first grant competition for this program under the authority given in the Consolidated Appropriations Act, 2022, and, therefore, qualifies for this exemption. In order to ensure timely grant awards, the Secretary has decided to forego public comment on the priority, requirements, definitions, and selection criteria under section 437(d)(1) of GEPA. The priority, requirements, definitions, and selection criteria will apply to the FFY 2023 grant competition and any subsequent year in which we make awards from the list of unfunded applications for this competition.

Program Authority: Consolidated Appropriations Act, 2022 (Pub. L. 117-103), 136 Stat. 49.

Note: Proposed projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards (Uniform Guidance) in 2 CFR part 200, as adopted and amended as regulations of the Department in 2 CFR part 3474.

II. Award Information

Type of Award: Discretionary grants negotiated as cooperative agreements.

Estimated Available Funds: $224,023,590.00.

Contingent upon the availability of funds and the quality of applications, we may make additional awards in FY 2024 from the list of unfunded applications from this competition.

Estimated Range of Awards: $4,000,000-$10,000,000 (frontloaded for the 60-month project period).

Estimated Average Size: $7,000,000.

Estimated Number of Awards: 22-32.

Note: The Department is not bound by any estimates in this notice.

Project Period: Up to 60 months.

Note: The Final Performance Report must be completed and submitted by the end of the project period, September 30, 2028. Therefore, the project must complete core project activities to allow sufficient time for the evaluation and final performance report to be completed and submitted by the end of the project period on September 30, 2028.

Note: Applicants under this competition are required to provide detailed budget information for the total grant period, including detailed budget information for each of the five years of the proposed project. Applicants may not set aside more than 5 percent of the total budget to evaluate the overall effectiveness of the proposed project. Applicants are encouraged to consider the impact of implementation of the proposed project when creating a year 1 budget. Applicants are also encouraged to consider the impact of the period of performance end date, September 30, 2028, when creating the year 5 budget.

Note: Grantees are expected to complete at least monthly drawdowns of expenditures.

Note: Subgrantees are expected to report monthly invoices of expenditures to the grantee.

III. Eligibility Information

1. Eligible Applicants: SVRAs and SEAs.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

d. Administrative Expenses:

(i) All administrative expenses incurred under the DIF program must be reasonable and necessary for the administration of the DIF program and must conform to the requirements of the Federal Cost Principles described in 2 CFR 200.403 through 200.405.

(ii) Although, in certain circumstances, proposed project participants served and services provided are the same under both the DIF programs and the SVRA programs, these programs are separate and distinct programs with separate and distinct funding streams and requirements. As such, when allocating administrative costs between the DIF programs and SVRA programs, grantees must allocate the costs in accordance with the requirements of 2 CFR 200.405. This means that both DIF program and SVRA program funds could be used to pay administrative costs associated with staff time providing services; however, with respect to those administrative activities limited to the DIF program, such as submitting progress reports, grantees must use only DIF program funds (or other allowable funds) to pay these costs. This applies to grantees and subgrantees.

(iii) SVRA program funds and non-Federal funds used for match under the VR program can only pay for allowable costs under the VR program, including administrative costs, in accordance with 2 CFR 200.403 through 200.405.

3. Subgrantees: Under the Consolidated Appropriations Act, 2022, a grantee under this competition may award subgrants. Under this competition, subgrants may not exceed 75 percent of the funds. Under 34 CFR 75.708(b) and (c), a grantee under this competition may award subgrants—to directly carry out project activities described in its application—to the following types of entities: public and private, nonprofit entities, SVRAs, SEAs, LEAs, and CILs. The grantee may only award subgrants to entities it has identified in an approved application. Subrecipients may not further subgrant funds received under this award.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of proposed projects that may be proposed in applications for the DIF, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to the application narrative.

6. Notice of Intent To Apply: The Department will be able to review grant applications more efficiently if we know the approximate number of applicants that intend to apply. Therefore, we strongly encourage each potential applicant to notify us of their intent to submit an application. To do so, please email the program contact person listed under FOR FURTHER INFORMATION CONTACT with the subject line “Intent To Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 or are established for the FFY 2023 grant competition and any subsequent year in which we make awards from the list of unfunded applications from this competition, in accordance with section 437(d)(1) of GEPA, and are as follows:

(a) Need for project and significance of the project (10 points)

(1) The Secretary considers the need for the proposed project and the significance of the proposed project.

(2) In determining the need for the proposed project and the significance of the proposed project, the Secretary considers the following factors:

(i) The magnitude of the need for the services to be provided or the activities to be carried out by the proposed project.

(ii) The extent to which the proposed project is likely to build local capacity to provide, improve, or expand services that address the needs of the target population.

(b) Quality of the project design (20 points)

(1) The Secretary considers the quality of the design of the proposed project.

(2) In determining the quality of the design of the proposed project, the Secretary considers the following factors:

(i) The extent to which the goals, objectives, and outcomes to be achieved by the proposed project are clearly specified and measurable.

(ii) The extent to which the design of the proposed project reflects up-to-date knowledge from research and effective practice.

(iii) The extent to which the results of the proposed project are to be disseminated in ways that will enable others to use the information or strategies. (Section 437(d)(1) of GEPA.)

(iv) The extent to which the proposed project represents an exceptional innovative approach to the priority established for the competition.

(v) The extent to which performance feedback and continuous improvement are integral to the design of the proposed project.

(c) Quality of project services (20 points)

(1) The Secretary considers the quality of the services to be provided by the proposed project.

(2) In determining the quality of services to be provided by the proposed project, the Secretary considers the quality and sufficiency of strategies for ensuring equal access and treatment for eligible proposed project participants who are members of groups that have traditionally been underrepresented based on race, color, national origin, gender, age, or disability.

(3) In addition, the Secretary considers the following factors:

(i) The extent to which the services to be provided by the proposed project involve the collaboration of appropriate partners for maximizing the effectiveness and seamlessness of proposed project services. (Section 437(d)(1) of GEPA.)

(ii) The extent to which the services to be provided by the proposed project are appropriate to the needs of the intended recipients or beneficiaries of those services.

(iii) The likely impact of the services to be provided by the proposed project on the intended recipients of those services.

(d) Quality of the project evaluation (20 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the evaluation will provide performance feedback and permit periodic assessment of progress toward achieving intended outcomes.

(e) Quality of project personnel (15 points)

(1) The Secretary considers the quality of the personnel who will carry out the proposed project.

(2) In determining the quality of proposed project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The extent to which the time commitments of the project director and principal investigator and other key personnel are appropriate and adequate to meet the objectives of the proposed project. (Section 437(d)(1) of GEPA.)

(f) Adequacy of resources (15 points)

(1) The Secretary considers the adequacy of resources for the proposed project.

(2) In determining the adequacy of resources for the proposed project, the Secretary considers the following factors:

(i) The relevance and demonstrated commitment of each partner in the proposed project to the implementation and success of the project.

(ii) The extent to which the costs are reasonable in relation to the number of persons to be served and to the anticipated results and benefits.

(iii) The potential for the incorporation of proposed project purposes, activities, or benefits into the ongoing program of the agency or organization at the end of the Federal funding.

(iv) The adequacy of support, including facilities, equipment, supplies, and other resources, from the applicant organization.

2. Review and Selection Process: We remind potential applicants that in reviewing applications in any discretionary grant competition, the Secretary may consider, under 34 CFR 75.217(d)(3), the past performance of the applicant in carrying out a previous award, such as the applicant's use of funds, achievement of proposed project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For the FFY 2023 grant competition and any subsequent year in which we make awards from the list of unfunded applications from this competition, in accordance with section 437(d)(1) of GEPA, in selecting an application for an award under this program, we also consider the geographical distribution of projects in the DIF program throughout the country. This factor will be applied after non-Federal reviewers score the applications. The geographical distribution of projects factor will be applied to fund applications out of rank order if the top-ranked applications do not represent a geographical distribution throughout the country.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the proposed project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216).

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of the project period, September 30, 2028, you must submit a final performance report, including financial information, as directed by the Secretary. If you receive a multiyear award, you must submit annual performance reports and end of year performance reports that provide the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures: Under the absolute priority, grant recipients must develop and implement a plan to measure the innovative model demonstration project's performance and outcomes, including an evaluation of the practices and strategies implemented by the project. The performance measures will be developed in collaboration with the Department or its contracted independent evaluators during the first three months of the awards. Performance measures may, for example, assess the impact of project activities on effective collaboration and child and youth outcomes, access to resources, sustainability, and the replicability of project. The cooperative agreement, for year 1, will specify the program measures that will be used to assess the grantees' performance in achieving the goals and objectives of the competition.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Katherine Neas,
Deputy Assistant Secretary, Delegated the authority to perform the functions and duties of the Assistant Secretary for the Office of Special Education and Rehabilitative Services.

[FR Doc. 2023-07204 Filed 4-3-23; 4:15 pm]

BILLING CODE 4000-01-P